CONSUMER PRODUCT SAFETY COMMISSION

16 CFR Chapter II

Fiscal Year 2005 Program for Systematic Review of Commission Regulations; Request for Comments and Information

AGENCY: Consumer Product Safety Commission.

ACTION: Notice of systematic review of current regulations.

SUMMARY: The Consumer Product Safety Commission (CPSC or Commission) announces its fiscal year 2005 program for systematic review of its current substantive regulations to ensure, to the maximum practical extent, consistency among them and with respect to accomplishing program goals. In fiscal year 2005, the following six regulations will be evaluated: safety standard for cigarette lighters, 16 CFR part 1210; safety standard for multi-purpose lighters, 16 CFR part 1212; requirements for bicycles, 16 CFR part 1512; standards for the surface flammability of carpets and rugs, 16 CFR parts 1630 and 1631; and child-resistant packaging requirements for controlled drugs, 16 CFR 1700.14(a)(4).

The primary purpose of the review is to assess the degree to which the regulations under review remain consistent with the Commission's program policies. In addition, each regulation will be examined with respect to the extent that it is current and relevant to CPSC program goals. Attention will also be given to whether the regulations can be streamlined, if possible, to minimize regulatory burdens, especially on small entities. To the degree consistent with other Commission priorities and subject to the availability of personnel and fiscal resources, specific regulatory or other projects may be undertaken in response to the results of the review.

The Commission solicits written comments from interested persons concerning the designated regulations' currentness and consistency with Commission policies and goals, and suggestions for streamlining where appropriate. In so doing, commenters are requested to specifically address how their suggestions for change could be accomplished within the various statutory frameworks for Commission action under the Consumer Product Safety Act (CPSA), 15 U.S.C. 2051-2084, Federal Hazardous Substances Act (FHSA), 15 U.S.C. 1261-1278, Flammable Fabrics Act (FFA), 15 U.S.C. 1191-1204; and Poison Prevention Packaging Act (PPPA), 15 U.S.C. 1471-1476.

DATES: Comments and submissions in response to this notice must be received by June 10, 2005.

ADDRESSES: Comments and other submissions should be captioned “Fiscal Year 2005 Regulatory Review Project” and be submitted by e-mail to cpsc-os@cpsc.gov or by facsimile to (301) 504-0127. Comments may also be submitted by mail to the Office of the Secretary, Consumer Product Safety Commission, Washington, DC 20207, or delivered to that office, Room 502, 4330 East-West Highway, Bethesda, Maryland 20814.

FOR FURTHER INFORMATION CONTACT: Scott Heh, Office of Hazard Identification and Reduction, U.S. Consumer Product Safety Commission, Washington, DC 20207; telephone (301) 504-7646; e-mail sheh@cpsc.gov.

SUPPLEMENTARY INFORMATION:

A. The Review Program

The President's Office of Management and Budget has designed the Program Assessment Rating Tool (PART) to provide a consistent approach to rating programs across the Federal government. A description of the PART process and associated program evaluation materials is available online at: http://www.whitehouse.gov/omb/budintegration/part_assessing2004.html.

Based on an evaluation of the Commission's regulatory programs using the PART, the recommendation was made that CPSC develop a plan to systematically review its current regulations to ensure consistency among them in accomplishing program goals. In FY 2004, the Commission conducted a pilot review program as the initial step in implementing that recommendation. The notice announcing the pilot program appeared in the Federal Register on January 28, 2004. 69 FR 4095. Based on the success of the pilot program, the Commission is now announcing the continuation of the program for fiscal year 2005.

B. The Regulations Undergoing Review

A summary of each of the regulations being reviewed in fiscal year 2005 is provided below. The full text of the regulations may be accessed at: http://www.access.gpo.gov/nara/cfr/waisidx_03/16cfrv2_03.html.

1. Safety Standards for Cigarette Lighters and Multi-Purpose Lighters

The safety standards for cigarette lighters and multi-purpose lighters appear at 16 CFR parts 1210 and 1212. These rules were promulgated, respectively, in 1993 (cigarette lighters, 58 FR 37584) and 1999 (multi-purpose lighters, 64 FR 71872). Both safety standards set child-resistance requirements for lighters, designed to impede their successful operation by children under age five. Both regulations were issued under the authority of the CPSA.

For the purposes of this regulatory review, both safety standards have two pertinent parts. Subpart A establishes the basic requirements for child resistance, including detailed child-test protocols. Subpart B outlines various certification, labeling, and recordkeeping requirements.

2. Requirements for Bicycles

The requirements for bicycles appear at 16 CFR part 1512. 43 FR 60034 (December 22, 1978). The regulation includes a number of mechanical and other requirements intended to reduce the risk of injury from bicycles. Part 1512 was promulgated under authority of the FHSA.

3. Standards for Surface Flammability of Carpets and Rugs

The standards for surface flammability of carpets and rugs appear at 16 FR parts 1630 and 1631. They were codified at those locations in 1975. 40 FR 59931 and 59935 (December 30, 1975). The standards were originally issued in 1970 by the Department of Commerce. The standards establish minimum standards for the surface flammability of carpets and rugs when exposed to a standard small source of ignition, a burning methenamine tablet, under prescribed conditions. Cleaning methods are also prescribed in the standards for various carpet and rug types to help assure permanence of any flame retardant treatments. The standards were issued under authority of the FFA.

4. Controlled Substances

The Commission is reviewing the regulation at 16 CFR 1700.14(a)(4) that requires child-resistant packaging for oral drugs subject to the Comprehensive Drug Abuse Prevention and Control Act, 21 U.S.C. 801, et seq. (controlled drugs). The regulation was promulgated under authority of the PPPA in 1972, 37 FR 8433 (April 27, 1972).

C. Solicitation of Comments and Information

The Commission invites interested persons to submit comments on each of the regulations being reviewed in the fiscal year 2005 program. In particular, commenters are asked to address:

1. Whether the regulation is consistent with CPSC program goals.

2. Whether the regulation is consistent with other CPSC regulations.

3. Whether the regulation is current with respect to technology, economic, or market conditions, and other mandatory or voluntary standards.

4. Whether the regulation can be streamlined to minimize regulatory burdens, particularly any such burdens on small entities.

For each regulation being reviewed, please provide any specific recommendations for change(s), if viewed as necessary, a justification for the recommended change(s), and, with respect to each suggested change, a statement of the way in which the change can be accomplished within the statutory framework of the CPSA, FHSA, FFA, or PPPA, as applicable.

Comments and other submissions should be captioned “Fiscal Year 2005 Regulatory Review Project” and e-mailed to cpsc-os@cpsc.gov or faxed to (301) 504-0127. Comments or other submissions may also be mailed to the Office of the Secretary, Consumer Product Safety Commission, Washington, DC 20207, or delivered to that office, Room 502, 4330 East-West Highway, Bethesda, Maryland 20814. All comments and other submissions must be received by June 10, 2005.

Dated: April 4, 2005.
Todd A. Stevenson,
Secretary, Consumer Product Safety Commission.

[FR Doc. 05-7105 Filed 4-8-05; 8:45 am]

BILLING CODE 6355-01-P